DEPARTMENT OF HEALTH AND HUMAN SERVICES

National Institutes of Health

National Institute of Neurological Disorders and Stroke; Amended Notice of Meeting

Notice is hereby given of a change in the meeting of the National Institute of Neurological Disorders and Stroke Special Emphasis Panel, October 31, 2023, 11:00 a.m. to November 03, 2023, 05:00 p.m., National Institutes of Health, Neuroscience Center, 6001 Executive Boulevard, Rockville, MD 20852 which was published in the Federal Register on September 25, 2023, FR Doc 2023-21368, 88 FR 67334.

This notice is being amended to change the dates and time of this two-day meeting to November 3, 2023, and November 17, 2023; The start time has changed to 10:00 a.m., and the end time remains the same. The meeting is closed to the public.

Dated: October 26, 2023.
David W. Freeman,
Supervisory Program Analyst, Office of Federal Advisory Committee Policy.

[FR Doc. 2023-24115 Filed 10-31-23; 8:45 am]

BILLING CODE 4140-01-P